DEPARTMENT OF COMMERCE

Census Bureau

Decennial Short Form Experiment

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 5, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT:

Requests for additional information or copies of the information collection instrument(s) and instructions should be directed to Elizabeth Martin, Census Bureau, Building 3, Room Number 3715, Washington, DC 20333, 301-763-4905 (elizabeth.ann.martin@census.gov).

SUPPLEMENTARY INFORMATION:

I. Abstract

Introduction

The Census Bureau plans to conduct an experimental mailing for the Decennial Short Form. The goal of this experiment is to improve the quality of data collected in the 2010 Census and the response to the mailed Short Form.

The experiment will include treatment groups that encompass three objectives. The first objective of the test is to evaluate the effects of the wording of the instruction about whom to list as Person 1. The instruction used in Census 2000 caused confusion and errors by respondents in cognitive interviews. Consequently, the instruction was revised to try to correct the problems identified in cognitive testing. The revised version has been through two additional rounds of cognitive testing, and it seems to promote more accurate responses. The field test will provide empirical evidence that we will use to evaluate the success of the revised instruction.

The second goal of the field test is to evaluate an additional question series that is designed to alleviate respondent confusion about what constitutes a completed form. The additional question will provide respondents with a clear stopping point, which is currently lacking. (Respondents in previous cognitive interviews spent considerable time trying to figure out when and where they are supposed to stop.) The final question series will collect the respondent's name, phone number, and proxy status. (In some cases, someone outside the household completes the questionnaire—e.g., a child of an elderly individual. This type of respondent is a “proxy” respondent for the household.) This information will be used to evaluate the effect of the revised instruction on the frequency with which respondents erroneously leave themselves off the form. An experimental version will further ask respondents to make sure that the forms are complete before they mail them back.

The third goal of the field test is to evaluate how a compressed mailing schedule with a “due date” on the form impacts the rate and speed of response. By “compressed” we mean that the mailing schedule will differ from the standard 2000 Census approach, where the Short Form is mailed 2 weeks before “Census Day.” In the compressed approach, we will time the mailing so that households receive the questionnaire a few days before “Census Day.” “Census Day” for this test will be approximately one month after we receive OMB approval.

Background

Research by Dillman, Parsons, and Mahon-Taft (2004) revealed that the instruction used in Census 2000 caused serious confusion and errors by respondents in cognitive interviews. Almost half (13 of 30) of the respondents expressed confusion about whom to list as Person 1, and 13 percent left themselves or someone else off the form entirely. Misunderstanding this instruction may cause coverage errors since subsequent questions ask for each person's relationship to Person 1—the householder. Respondents who list the wrong person as Person 1 will be reporting relationship incorrectly for the members of their households.

Another challenge in the current questionnaire is that some respondents are unclear what constitutes a completed form. Respondents in recent cognitive interviews spent considerable time trying to figure out when and where they are supposed to stop. While this may not affect the quality of the data, it does increase respondent burden and may also delay return of the form.

Finally, the mail back response rate and the speed with which households return their questionnaires is highly correlated with the cost of the Decennial Census. The current form does not provide households with any indication of the questionnaire due date. This fact may delay response, and therefore increase the number of contacts (followup mailings and in-person contacts) necessary to obtain a completed questionnaire.

Based on these issues, we have designed a field test to evaluate new methods to address these concerns. There are three objectives of this special mailout test:

1. Evaluate the effects of the wording of the instruction about who to list as Person 1.

2. Evaluate the proportion of respondents who forget to enumerate themselves by asking them to provide their personal information at the end of the form.

3. Evaluate how a compressed schedule with a fixed due date impacts unit response patterns.

In order to assess these treatments, the Census Bureau has proposed the following design:

• Group 1. Housing units in this treatment group will receive questionnaires with the same wording for the Person 1 instruction that we used in the Census 2000 questionnaire. In the Final Question, respondents will be asked to provide their name, telephone number and proxy information. The mail out schedule will be the conventional schedule. The questionnaire will be mailed two weeks before “Census Day”, and there will be no explicit deadline.

• Group 2. Housing units in this treatment group will receive questionnaires with the revised wording for the Person 1 instruction. In the Final Question, respondents will be asked to provide their name, telephone number and proxy information. The mailout schedule will be the conventional schedule. The questionnaire will be mailed two weeks before “Census Day” and there will be no explicit deadline.

• Group 3. Housing units in this treatment group will receive questionnaires with the revised wording for the Person 1 instruction. In the Final Question, respondents will be asked to check over their answers before considering the survey complete. The mailout schedule will be the conventional schedule. The questionnaire will be mailed two weeks before “Census Day” and there will be no explicit deadline.

• Group 4. Housing units in this treatment group will receive questionnaires with the revised wording for the Person 1 instruction. In the Final Question, respondents will be asked to check over their answers before considering the survey complete. The mailout schedule will be compressed, so that the survey is received closer to “Census Day” and an explicit due date will be provided.

II. Method of Collection

The Census Bureau will select a national sample of households for the Short Form Mail Experiment. The sample will be drawn from the U.S. Postal Service (USPS) Delivery Sequence File (DSF), which contains all delivery point addresses serviced by the USPS. The USPS list sometimes misses new housing, includes vacant units, excludes addresses where the addressee has requested removal from the list, and may have limited information for individuals who live in apartments or who have post office boxes and rural route addresses. Even so, it is the most cost effective approach available for the test. We do not anticipate that the limitations of the address list will have a substantial impact on the results of the experiment.

In order to obtain completed surveys from 10,000 households, we plan to draw an initial sample of 24,000 households. (Since previous Census Bureau mailout tests have obtained response rates of 40 to 50 percent, we have assumed a response rate of 45 percent and an undeliverable rate of 7 percent.) The sample will be allocated proportionately across the 50 states and the District of Columbia.

We will mail the following independent mailing pieces to households at all sampled addresses: An advance letter, an original questionnaire with postage-paid return envelope, and a reminder card. A replacement questionnaire with postage-paid return envelope will be mailed to those who request them. All mailing pieces will be delivered by the USPS via first class postage.

The advance letter will be delivered approximately three weeks after we receive approval from OMB to conduct the test. This letter will inform respondents that they will soon receive a census form. About a week later, each sampled address will receive a mailing package that includes the questionnaire (English only) and a return envelope. Approximately one week after the initial questionnaires have been delivered, the USPS will deliver a reminder post card to each address. This postcard—which will be mailed seven days following the mailing of the questionnaire—will serve as a thank-you for respondents who have mailed back the questionnaire and will be a reminder for those who have not. A second postcard, which will be mailed approximately 10 days later, will be sent only to non-respondents.

III. Data

OMB Number: None.

Form Number: D-61A.

Type of Review: Regular.

Affected Public: Individuals.

Maximum Number of Respondents: 24,000 housing units.

Estimated Time Per Response: All questionnaires will require approximately 10 minutes for response.

Estimated Total Annual Burden Hours: A maximum burden of 4,000 hours

Estimated Total Annual Cost: There is no cost to respondents except for their time to respond.

Respondent's Obligation: Mandatory.

Legal Authority: Title 13 of the United States Code, sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 29, 2005.
Madeleine Clayton,
Management Analyst, Office of the Chief Information Officer.

[FR Doc. 05-19894 Filed 10-4-05; 8:45 am]

BILLING CODE 3510-07-P